ENVIRONMENTAL PROTECTION AGENCY

[EPA-HQ-OPP-2008-0855; FRL-8394-3]

Registration Review; Citric Acid, and Salts Docket Opened for Review and Comment

Correction

In notice document E8-29974 beginning on page 76648 in the issue of Wednesday, December 17, 2008, make the following correction:

On page 76650, in the first column, the signature block should appear as follows:

Dated: December 7, 2008.
Joan Harrigan Farrelly,
Director, Antimicrobials Division, Office of Pesticide Programs.

[FR Doc. Z8-29974 Filed 12-19-08; 8:45 am]

BILLING CODE 1505-01-D